DEPARTMENT OF LABOR

Employment and Training Administration

Notice of Determinations Terminating Investigations of Petitions Regarding Eligibility To Apply for Worker Adjustment Assistance

In accordance with Section 223 of the Trade Act of 1974, as amended (19 U.S.C. 2273) the Department of Labor herein presents summaries of determinations terminating investigations of petitions regarding eligibility to apply for trade adjustment assistance for workers by (TA-W-) number issued during the period of November 20, 2009 through December 2, 2009. After notice of the petitions was published in the Federal Register and on the Department's Web site, as required by Section 221 of the Act (19 U.S.C. 2271), the Department initiated investigations of these petitions.

The following determinations terminating investigations were issued. The Department issued a negative determination on petitions related to the relevant investigation period applicable to the same worker group. The duplicative petitions did not present new information or change in circumstances which would result in a reversal of the Department's previous negative determination, and therefore further investigation would duplicate efforts and serve no purpose.

TA-W-71,557: Electronic Data Systems, Plano, Texas, covered by TA-W-70,631: Electronic Data Systems, Plano, Texas.

TA-W-72,312: Anheuser-Busch, Inc., Mt. Vernon, Illinois, covered by TA-W-72,275: Anheuser-Busch, Inc., Mt. Vernon, Illinois.

I hereby certify that the aforementioned determinations were issued during the period of November 20, 2009 through December 2, 2009. Copies of these terminations are available for inspection in Room N-5428, U.S. Department of Labor 200 Constitution Avenue, NW., Washington, DC 20210 during normal business hours or will be mailed to persons who write to the above address. These determinations also are available on the Department's Web site at http://www.doleta/tradeact under the searchable listing of determinations.

Dated: April 14, 2010.
Elliott S. Kushner,
Certifying Officer, Division of Trade Adjustment Assistance.

[FR Doc. 2010-9352 Filed 4-21-10; 8:45 am]

BILLING CODE 4510-FN-P